FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011654-016.

Title: Middle East Indian Subcontinent Discussion Agreement.

Parties: A.P. Moller-Maersk A/S; China Shipping Navigation Co., Ltd. d/b/a Indotrans; CMA CGM S.A.; Hapag-Lloyd Container Linie GmbH; MacAndrews & Company Limited; The National Shipping Company of Saudi Arabia; and United Arab Shipping Company (S.A.G.).

Filing Party: Wayne R. Rohde, Esq.; Sher & Blackwell LLP; 1850 M Street, NW.; Suite 900; Washington, DC 20036.

Synopsis: The amendment adds Emirates Shipping Line FZE; Shipping Corporation of India, Ltd.; and Zim Integrated Shipping Services, Ltd. as parties to the agreement. The amendment also changes Hapag-Lloyd's corporate name to Hapag-Lloyd AG.

Agreement No.: 011666-003.

Title: West Coast North America/Pacific Islands Vessel Sharing Agreement.

Parties: Hamburg-Süd and Polynesia Line Ltd.

Filing Party: Wayne R. Rohde, Esq.; Sher & Blackwell LLP; 1850 M Street, NW.; Suite 900; Washington, DC 20036.

Synopsis: The amendment revises the number of vessels provided by Hamburg-Süd under the agreement.

Agreement No.: 011741-009.

Title: U.S. Pacific Coast-Oceania Agreement.

Parties: A.P. Moller-Maersk A/S; Australia-New Zealand Direct Line; CP Ships USA, LLC; and Hamburg-Süd.

Filing Party: Wayne R. Rohde, Esq.; Sher & Blackwell; 1850 M Street, NW.; Suite 900; Washington, DC 20036.

Synopsis: The amendment deletes FESCO Ocean Management Limited (“FOML”) as a party, adds a trade name for Hamburg-Süd, and revises the vessel provision and space allocations of the agreement to reflect the acquisition of FOML's assets in the trade by Hamburg Süd.

Agreement No.: 011741-010.

Title: U.S. Pacific Coast-Oceania Agreement.

Parties: A.P. Moller-Maersk A/S; Hamburg-Süd; and Hapag-Lloyd AG.

Filing Party: Wayne R. Rohde, Esq.; Sher & Blackwell LLP; 1850 M Street, NW.; Suite 900; Washington, DC 20036.

Synopsis: The amendment deletes Australia-New Zealand Direct Line and CP Ships USA, LLC as parties to the agreement, adds Hapag-Lloyd AG as a party, and makes corresponding revisions to the agreement where necessary.

Agreement No.: 011777-002.

Title: CP Ships/CCNI Slot Charter Agreement.

Parties: CP Ships USA, LLC and Compania Chilena de Navegacion Interoceanica S.A.

Filing Party: Wayne R. Rohde, Esq.; Sher & Blackwell LLP; 1850 M Street, NW.; Suite 900; Washington, DC 20036.

Synopsis: The amendment deletes CP Ships USA, LLC as a party to the agreement, adds Hapag-Lloyd AG, makes corresponding changes to the agreement where necessary, and restates the agreement.

Agreement No.: 011966.

Title: West Coast USA-Mexico & Canada Vessel Sharing Agreement.

Parties: Compania Sud Americana de Vapores S.A.; Hamburg-Süd; Compania Chilena de Navegacion Interoceania, S.A.; and Maruba S.C.A.

Filing Party: Wayne R. Rohde, Esq.; Sher & Blackwell LLP; 1850 M Street, NW.; Suite 900; Washington, DC 20036.

Synopsis: The agreement would authorize the parties to operate a service between the U.S. West Coast and the Pacific Coasts of Mexico and Canada and engage in a limited range of cooperative activities.

Agreement No.: 011967.

Title: CSAV/NYK Venezuela Space Charter Agreement.

Parties: Compania Sud Americana de Vapores S.A. (“CSAV”) and Nippon Yusen Kaisha (“NYK”).

Filing Party: Wayne R. Rohde, Esq.; Sher & Blackwell LLP; 1850 M Street, NW.; Suite 900; Washington, DC 20036.

Synopsis: The agreement authorizes CSAV to charter space to NYK for the carriage of motor vehicles from Baltimore, MD to ports in Venezuela. The agreement expires August 31, 2006.

Agreement No.: 011968.

Title: Hanjin-Evergreen Cross Slot Charter Agreement.

Parties: Evergreen Marine Corp., Ltd. (“Evergreen”) and Hanjin Shipping Co., Ltd. (“Hanjin”).

Filing Party: Paul M. Keane, Esq.; Cichanowicz, Callan, Keane, Vengrow & Textor, LLP; 61 Broadway; Suite 3000; New York, NY 10006-2802.

Synopsis: Under the agreement, Evergreen will provide space to Hanjin on its Far East/East Coast of South America service and in return Hanjin will provide space to Evergreen on its U.S. East Coast/East Coast South America service.

By Order of the Federal Maritime Commission.
Dated: July 21, 2006.
Bryant L. VanBrakle,
Secretary.

[FR Doc. E6-11956 Filed 7-25-06; 8:45 am]

BILLING CODE 6730-01-P